DEPARTMENT OF COMMERCE

United States Patent and Trademark Office

Submission for OMB Review; Comment Request; “Representative and Address Provisions”

The United States Patent and Trademark Office (USPTO) will submit to the Office of Management and Budget (OMB) for clearance the following proposal for collection of information under the provisions of the Paperwork Reduction ACT (44 U.S.C. Chapter 35).

Agency: United States Patent and Trademark Office, Commerce.

Title: Representative and Address Provisions.

OMB Control Number: 0651-0035.

Form Number(s):

• PTO/AIA/80

• PTO/AIA/81

• PTO/AIA/81A

• PTO/AIA/81B

• PTO/AIA/82A

• PTO/AIA/82B

• PTO/AIA/122

• PTO/AIA/123

• PTO/SB/80

• PTO/SB/81

• PTO/SB/81A

• PTO/SB/81B

• PTO/SB/81C

• PTO/SB/83

• PTO/SB84

• PTO/SB/122

• PTO/SB/123

• PTO/SB/124

• PTO/SB/125

• PTO-2248

Type of Request: Regular.

Number of Respondents: 501,905 responses per year.

Average Hours per Response: The USPTO estimates that it will take the public approximately between 3 minutes (0.05 hours) and 90 minutes (1.5 hours) to submit the information in this collection, including the time to gather the necessary information, prepare the appropriate form or document, and submit the completed request to the USPTO.

Burden Hours: 28,479.25 hours per year.

Cost Burden: $13,950.74 per year.

Needs and Uses: The public uses this information collection to grant or revoke power of attorney, to withdraw as attorney or agent of record, to authorize a practitioner to act in a representative capacity, to change a correspondence address, to request a Customer Number, and to change the data associated with a Customer Number. This collection is necessary so that the USPTO knows who is authorized to take action in an application, patent, or reexamination proceeding and where to send correspondence regarding an application, patent, or reexamination proceeding.

Frequency: On occasion.

Respondent's Obligation: Required to Obtain or Retain Benefits.

OMB Desk Officer: Nicholas A. Fraser, email: Nicholas_A._Fraser@omb.eop.gov.

Once submitted, the request will be publicly available in electronic format through reginfo.gov. Follow the instructions to view Department of Commerce collections currently under review by OMB.

Further information can be obtained by:

• Email: InformationCollection@uspto.gov. Include “0651-0035 copy request” in the subject line of the message.

• Mail: Marcie Lovett, Records and Information Governance Division Director, Office of the Chief Technology Officer, United States Patent and Trademark Office, P.O. Box 1450, Alexandria, VA 22313-1450.

Written comments and recommendations for the proposed information collection should be sent on or before February 28, 2018 to Nicholas A. Fraser, OMB Desk Officer, via email to Nicholas_A._Fraser@omb.eop.gov, or by fax to 202-395-5167, marked to the attention of Nicholas A. Fraser.

Marcie Lovett,
Records and Information Governance Division Director, OCTO, United States Patent and Trademark Office.

[FR Doc. 2018-01609 Filed 1-26-18; 8:45 am]

BILLING CODE 3510-16-P